FEDERAL COMMUNICATIONS COMMISSION

47 CFR Part 25

[GN Docket No. 14-177, FCC 19-30]

Use of Spectrum Bands Above 24 GHz for Mobile Radio Services

AGENCY: Federal Communications Commission.

ACTION: Final rule; announcement of compliance date.

SUMMARY: In this document, the Commission announces that the Office of Management and Budget (OMB) has approved the information collection associated with a rule for specific millimeter wave bands above 24 GHz in the Commission's Fifth Report and Order, FCC 19-30, and that compliance with the modified rule is now required. It removes paragraphs advising that compliance was not required until OMB approval was obtained. This document is consistent with the Fifth Report and Order FCC 19-30, which states the Commission will publish a document in the Federal Register announcing a compliance date for the modified rule section and revise the rule accordingly.

DATES: Effective date: This rule is effective September 9, 2019.

Compliance date: Compliance with 47 CFR 25.136(e), (f), and (g), published 84 FR 20810 on May 13, 2019, is required as of September 9, 2019.

FOR FURTHER INFORMATION CONTACT: John Schauble of the Wireless Telecommunications Bureau, Broadband Division at (202) 418-0797 or John.Schauble@fcc.gov, Michael Ha of the Office of Engineering and Technology, Policy and Rules Division, at 202-418-2099 or Michael.Ha@fcc.gov, or Jose Albuquerque of the International Bureau, Satellite Division, at 202-418-2288 or Jose.Albuquerque@fcc.gov.

SUPPLEMENTARY INFORMATION: This document announces that OMB approved the information collection requirement in § 25.136(e), (f), and (g) on August 27, 2019. The rule was modified in the Fifth Report and Order, FCC 19-30, published 84 FR 20810, May 13, 2019. The Commission publishes this document as an announcement of the compliance date of the rules. The other rule amendments adopted in the Fifth Report and Order, which did not require OMB approval, became effective on June 12, 2019. If you have any comments on the burden estimates listed below, or how the Commission can improve the collections and reduce any burdens caused thereby, please contact Cathy Williams, Federal Communications Commission, Room 1-C823, 445 12th Street SW, Washington, DC 20554, regarding OMB Control Number 3060-1215. Please include the applicable OMB Control Number in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY). This document also removes § 25.136(h) of the Commission's rules, which advised that compliance was not required until OMB approval was obtained.

Synopsis

As required by the Paperwork Reduction Act of 1995 (44 U.S.C. 3507), the FCC is notifying the public that it received final OMB approval on August 27, 2019, for the information collection requirement contained in the modification to § 25.136(e), (f), and (g). Under 5 CFR part 1320, an agency may not conduct or sponsor a collection of information unless it displays a current, valid OMB Control Number.

No person shall be subject to any penalty for failing to comply with a collection of information subject to the Paperwork Reduction Act that does not display a current, valid OMB Control Number. The OMB Control Number for the information collection requirement in § 25.136(e), (f), and (g) is 3060-1215.

The foregoing notice is required by the Paperwork Reduction Act of 1995, Public Law 104-13, October 1, 1995, and 44 U.S.C. 3507.

The total annual reporting burdens and costs for the respondents are as follows:

OMB Control Number: 3060-1215.

OMB Approval Date: August 27, 2019.

OMB Expiration Date: August 31, 2022.

Title: Use of Spectrum Bands Above 24 GHz for Mobile Radio Services.

Form Number: N/A.

Respondents: Business or other for-profit, not-for-profit institutions, and state, local and tribal government.

Number of Respondents and Responses: 1,230 respondents; 1,230 responses.

Estimated Time per Response: .5-10 hours.

Frequency of Response: On occasion reporting requirement; third party disclosure requirement; recordkeeping; upon commencement of service, or within 3 years of effective date of rules; and at end of license term, or 2024 for incumbent licensees.

Obligation to Respond: Statutory authority for this collection are contained in sections 1, 2, 3, 4, 5, 7, 10, 201, 225, 227, 301, 302, 302a, 303, 304, 307, 309, 310, 316, 319, 332, and 336 of the Communications Act of 1934, 47 U.S.C. 151, 152, 153, 154, 155, 157, 160, 201, 225, 227, 301, 302, 302a, 303, 304, 307, 309, 310, 316, 319, 332, 336, Section 706 of the Telecommunications Act of 1996, as amended, 47 U.S.C. 1302.

Total Annual Burden: 735 hours.

Total Annual Cost: $540,000.

Privacy Act Impact Assessment: No impact(s).

Nature and Extent of Confidentiality: There is no need for confidentiality with this collection of information.

Needs and Uses: In this collection, the Commission amended in the Fifth Report and Order's § 25.136 by revising the section heading and revising paragraphs (e), (f), and (g) and adding paragraphs (e)(1), (2), (3), and (e)(4)(i), (ii), (iii), and (iv). The Fifth Report and Order was adopted on April 12, 2019 and released on April 15, 2019. The Commission added the 50 GHz band (50.4-51.4 GHz) to the bands that are subject to the framework for sharing between the Upper Microwave Flexible Use Service (UMFUS) and the Fixed-Satellite Service (FSS) established in that rule. In turn, since the rules now apply in additional bands, the number of respondents, the annual number of responses, annual burden hours and annual costs will increase for this collection. In addition, the

Commission re-orders the paragraphs in § 25.136.

List of Subjects in 47 CFR Part 25

Satellite communication.

Federal Communications Commission.
Marlene Dortch,
Secretary.

Final Rules

For the reason discussed in the preamble, the Federal Communications Commission amends 47 CFR part 25 as follows:

PART 25—SATELLITE COMMUNICATIONS

1. The authority citation for part 25 continues to read as follows:

Authority: 47 U.S.C. 154, 301, 302, 303, 307, 309, 310, 319, 332, 605, and 721, unless otherwise noted.

§ 25.136 [Amended]

2. Amend § 25.136 by removing paragraph (h).

[FR Doc. 2019-19323 Filed 9-6-19; 8:45 am]

BILLING CODE 6712-01-P